DEPARTMENT OF ENERGY

Federal Energy Regulatory Commission

[Project No. 7108-001]

Virginia Hydro, Inc.; Notice of Availability of Draft Environmental Assessment

February 29, 2000.

A draft environmental assessment (DEA) is available for public review. The DEA is for an application to surrender the exemption for the Grove Mill Project. The DEA finds that approval of the proposed amendment would not constitute a major federal action significantly affecting the quality of the human environment. The Grove Mill Project is located on the Middle River, in Augusta County, Virginia.

The DEA was written by staff in the Office of Hydropower Licensing, Federal Energy Regulatory Commission. Copies of the DEA are available for inspection and reproduction at the Commission's Public Reference Room, located at 888 First Street, NE., Room 2A, Washington, DC 20426, or by calling (202) 208-1371. The DEA may be viewed on the web at www.ferc.fed.us/online/rims.htm. Call (202) 208-2222 for assistance.

Please submit any comments on the DEA within 30 days from the date of this notice. Any comments, conclusions, or recommendations that draw upon studies, reports, or other working papers of substance should be supported by appropriate documentation. Comments should be addressed to: The Secretary, Federal Energy Regulatory Commission, 888 First Street NE., Washington, DC 20426. Please affix Project No. 7108-001 to all comments.

David P. Boergers,
Secretary.

[FR Doc. 00-5262 Filed 3-3-00; 8:45 am]

BILLING CODE 6717-01-M